DEPARTMENT OF STATE

[Public Notice:11252]

In the Matter of the Designation of the Eastern Turkistan Islamic Movement Also Known as ETIM as a “Terrorist Organization” Pursuant to Section 212(a)(3)(B)(vi)(II) of the Immigration and Nationality Act, as Amended

Acting under the authority of Section 212(a)(3)(B)(vi)(II) if the INA, as amended, I hereby revoke the designation of the Eastern Turkistan Islamic Movement, also known as ETIM, as a “terrorist organization” under Section 212(a)(3)(B)(vi)(II) if the INA. This determination shall be published in the Federal Register.

Dated: October 20, 2020.
Michael R. Pompeo,
Secretary of State.

[FR Doc. 2020-24620 Filed 11-4-20; 8:45 am]

BILLING CODE 4710-AD-P